DEPARTMENT OF TRANSPORTATION

Federal Aviation Administration

Public Notice for Waiver of Aeronautical Land-Use Assurance Manchester Airport, Manchester, NH

AGENCY: Federal Aviation Administration (FAA), DOT.

ACTION: Request for Public Comments. Notice of intent of waiver with respect to land.

SUMMARY: The FAA is considering a proposal that a portion of airport property (approximately .854 acres located in the approach to Runway 17) is no longer needed for aeronautical use, as shown on the Airport Layout Plan. There appear to be no impacts to the airport by allowing the disposal of the property. The land was acquired under FAA Project No. 3-33-0011-29 (portion of Parcel 98 as shown on the Exhibit “A” Property Map) on October 27, 1995.

In accordance with Section 47107(h) of title 49, United States Code, this notice is required to be published in the Federal Register thirty (30) days before modifying the land-use assurance which requires that the property be used for an aeronautical purpose. The land will be utilized by the U.S. Postal Service for an access road and employee parking. In return the U.S. Postal Service will deed an amount of land equal in area and value to the Airport in the Runway 17 Runway Protection Zone (RPZ). The swap will guarantee compatible land use on the land to be disposed of and the Airport will gain fee title to land in the RPZ.

DATES: Comments must be received on or before May 30, 2001.

FOR FURTHER INFORMATION CONTACT: Donna R. Witte, Airports Division, 12 New England Executive Park, Burlington, Massachusetts 01803. Telephone No. 781-238-7624/Fax 781-238-7608. Documents reflecting the proposed FAA action may be reviewed in person at 16 New England Executive Park, Burlington, Massachusetts or the office of the Assistant Director of Aviation, Engineering and Planning at Manchester Airport, Manchester, New Hampshire.

SUPPLEMENTARY INFORMATION: This notice announces that the FAA in considering the release of the subject airport property at Manchester Airport, Manchester, New Hampshire.

Issued in Burlington, Massachusetts on April 20, 2001.
Vincent A. Scarano,
Manager, Airports Division, New England Region.

[FR Doc. 01-10668 Filed 4-27-01; 8:45 am]

BILLING CODE 4910-13-M